DEPARTMENT OF JUSTICE

Notice of Lodging of Proposed Consent Decree Under the Clean Water Act

On September 23, 2019, the Department of Justice filed a Complaint and concurrently lodged a proposed Consent Decree to resolve claims by the United States against the Utah Department of Transportation for violations of the Clean Water Act, specifically violations of the terms and conditions of Defendant's National Pollutant Discharge Elimination System Permit issued by the State of Utah under Section 402(b) of the Clean Water Act, 33 U.S.C. 1342(b), for discharges of stormwater from Defendant's municipal separate storm sewer system (“MS4”) throughout the State of Utah. The Complaint alleges that Defendant failed to comply with permit procedures related to wet and dry weather monitoring of its MS4; implement a program to detect and eliminate illicit discharges and improper disposal into the MS4; implement a program to reduce pollutants in construction site stormwater runoff; implement and enforce a program to address post-construction stormwater runoff in new development and redevelopment; and implement an operation and maintenance program to reduce polluted runoff from municipal operations. The proposed Consent Decree addresses the alleged violations by requiring Defendant to update its MS4 plans and operating practices to comply with its permit and to pay a $325,000 civil penalty.

The publication of this notice opens a period for public comment on the Consent Decree. Comments should be addressed to the Assistant Attorney General, Environment and Natural Resources Division, and should refer to United States v. the Utah Department of Transportation, Civil Action No. 2:19-cv-00677, DOJ number 90-5-1-1-11614. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury. For a paper copy without the exhibits and signature pages, the cost is $9.00.

Jeffrey Sands,
Assistant Section Chief, Environmental Enforcement Section, Environment and Natural Resources Division.

[FR Doc. 2019-21213 Filed 9-30-19; 8:45 am]

BILLING CODE 4410-15-P